INTERNATIONAL TRADE COMMISSION

[USITC SE-17-046]

Government in the Sunshine Act Meeting Notice

Agency Holding the Meeting: United States International Trade Commission.

Time and Date: October 6, 2017 at 11:00 a.m.

Place: Room 101, 500 E Street SW., Washington, DC 20436, Telephone: (202) 205-2000.

Status: Open to the public.

Matters to be Considered: 1. Agendas for future meetings: None.

2. Minutes.

3. Ratification List.

4. Vote in Inv. Nos. 701-TA-587 and 731-TA-1385-1386 (Preliminary) (Titanium Sponge from Japan and Kazakhstan). The Commission is currently scheduled to complete and file its determinations on October 10, 2017; views of the Commission are currently scheduled to be completed and filed on October 17, 2017.

5. Outstanding action jackets: None.

In accordance with Commission policy, subject matter listed above, not disposed of at the scheduled meeting, may be carried over to the agenda of the following meeting.

By order of the Commission:
Issued: September 26, 2017.
William R. Bishop,
Supervisory Hearings and Information Officer.

[FR Doc. 2017-20946 Filed 9-26-17; 4:15 pm]

BILLING CODE 7020-02-P